ENVIRONMENTAL PROTECTION AGENCY

[EPA-HQ-OPP-2018-0014; FRL-10000-07]

Notice of Receipt of Requests To Voluntarily Cancel Certain Pesticide Registrations and Amend Registrations To Terminate Certain Uses

AGENCY: Environmental Protection Agency (EPA).

ACTION: Notice.

SUMMARY: In accordance with the Federal Insecticide, Fungicide, and Rodenticide Act (FIFRA), EPA is issuing a notice of receipt of requests by the registrants to voluntarily cancel certain pesticide product registrations and to amend certain product registrations to terminate uses. EPA intends to grant these requests at the close of the comment period for this announcement unless the Agency receives substantive comments within the comment period that would merit its further review of the requests, or unless the registrants withdraw their requests. If these requests are granted, any sale, distribution, or use of products listed in this notice will be permitted after the registrations have been cancelled and uses terminated only if such sale, distribution, or use is consistent with the terms as described in the final order.

DATES: Comments must be received on or before November 25, 2019.

ADDRESSES: Submit your comments, identified by docket identification (ID) number EPA-HQ-OPP-2018-0014, by one of the following methods:

Federal eRulemaking Portal: http://www.regulations.gov. Follow the online instructions for submitting comments. Do not submit electronically any information you consider to be Confidential Business Information (CBI) or other information whose disclosure is restricted by statute.

Mail: OPP Docket, Environmental Protection Agency Docket Center (EPA/DC), (28221T), 1200 Pennsylvania Ave. NW, Washington, DC 20460-0001.

Submit written withdrawal request by mail to: Information Technology and Resources Management Division (7502P), Office of Pesticide Programs, Environmental Protection Agency, 1200 Pennsylvania Ave. NW, Washington, DC 20460-0001. ATTN: Christopher Green.

Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Christopher Green, Information Technology and Resources Management Division (7502P), Office of Pesticide Programs, Environmental Protection Agency, 1200 Pennsylvania Ave. NW, Washington, DC 20460-0001; telephone number: (703) 347-0367; email address: green.christopher@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the Agency taking?

This notice announces receipt by EPA of requests from registrants to cancel certain pesticide products and amend product registrations to terminate certain uses registered under FIFRA section 3 (7 U.S.C. 136a) or 24(c) (7 U.S.C. 136v(c)). The affected products and the registrants making the requests are identified in Tables 1-3 of this unit.

Unless a request is withdrawn by the registrant or if the Agency determines that there are substantive comments that warrant further review of this request, EPA intends to issue an order in the Federal Register canceling and amending the affected registrations.

Table 1—Product Registrations With Pending Requests for Cancellation
Registration No. | Company No. | Product name | Active ingredients
228-709 | 228 | Super Boll | Ethephon.
464-782 | 464 | Aqucar PS 20 Water Treatment Microbiocide | Tetrakis(hydroxymethyl)phosphonium sulphate (THPS).
464-8126 | 464 | Aqucar PS 75 Water Treatment Microbiocide | Tetrakis(hydroxymethyl)phosphonium sulphate (THPS).
464-8127 | 464 | Aqucar THPS 75MFG Water Treatment Microbiocide | Tetrakis(hydroxymethyl)phosphonium sulphate (THPS).
464-8129 | 464 | Aqucar PS 75C MUP Water Treatment Microbiocide | Tetrakis(hydroxymethyl)phosphonium sulphate (THPS).
1258-1279 | 1258 | Pool Breeze Pool Care System Shock 35 | Lithium hypochlorite.
1381-227 | 1381 | Imidacloprid 75% WSP Turf, Insecticide | Imidacloprid.
2792-28 | 2792 | Deccosol 122 Concentrate | o-Phenylphenol, sodium salt.
2792-54 | 2792 | Deccosan 315 | Alkyl* dimethyl benzyl ammonium chloride *(60%C14, 30%C16, 5%C18, 5%C12 & Alkyl* dimethyl ethylbenzyl ammonium chloride *(68%C12, 32%C14).
7313-25 | 7313 | Clear Wood Preservative | Folpet & Carbamic acid, butyl-, 3-iodo-2-propynyl ester.
7364-94 | 7364 | Poolcare Lithium | Lithium hypochlorite.
8660-150 | 8660 | Vertagreen Fertilizer With 1% Surflan | Oryzalin.
34688-80 | 34688 | Aquatreat DNM-9 | Nabam & Sodium dimethyldithiocarbamate.
34688-81 | 34688 | Aquatreat DNM-360 | Nabam & Sodium dimethyldithiocarbamate.
45728-29 | 45728 | SDDC | Sodium dimethyldithiocarbamate.
57787-14 | 57787 | Crystal Shock | Lithium hypochlorite.
62719-605 | 62719 | Clincher EZ | Cyhalofop-butyl.
62719-613 | 62719 | Clincher GR | Cyhalofop-butyl.
62719-647 | 62719 | Clincher Granule | Cyhalofop-butyl.
62719-651 | 62719 | Clincher 5G | Cyhalofop-butyl.
69681-7 | 69681 | Clor Mor Lithium Shock | Lithium hypochlorite.
69681-35 | 69681 | Clor Mor Silver Algaecide | Nanosilver 002.
70127-2 | 70127 | Novozymes Biofungicide Green Releaf 710-140 | Bacillus licheniformis strain SB3086 & Indole-3-butyric acid.
70127-3 | 70127 | Novozymes Biofungicide 145F | Indole-3-butyric acid & Bacillus licheniformis strain SB3086.
85678-54 | 85678 | Flucarbazone Technical | Flucarbazone-sodium.
87663-2 | 87663 | Emery Agro 7010 Ready-To-Use (RTU) | Pelargonic acid, ammonium salt.
87663-4 | 87663 | Emery Agro 7030 Concentrate | Pelargonic acid, ammonium salt.
87663-5 | 87663 | Emery Agro 7040 Ready-To-Use (RTU) | Pelargonic acid, ammonium salt.
87663-6 | 87663 | Emerion 7001 Concentrate | Pelargonic acid, ammonium salt.
87663-7 | 87663 | Emerion 7031 Concentrate | Pelargonic acid, ammonium salt.
87703-1 | 87703 | 8 in 1 Bird Protector | Paradichlorobenzene.
88356-1 | 88356 | Niccanon ZP-700 | Zinc pyrithione.
CA-070010 | 71711 | Talus 40 SC Insect Growth Regulator | Buprofezin.
CA-080013 | 62719 | Lorsban Advanced | Chlorpyrifos.
CA-140001 | 70506 | Manzate Pro-Stick Fungicide | Mancozeb.
CO-030009 | 400 | Terrazole 4EC | Etridiazole.
CO-070004 | 66222 | Rimon 0.83 EC | Novaluron.
KS-170003 | 10163 | Treflan TR-10 | Trifluralin.
OR-060021 | 66222 | Rimon 0.83 EC | Novaluron.
OR-080024 | 279 | Fyfanon ULV AG | Malathion (NO INERT USE).
OR-160011 | 279 | Exirel Insect Control | Cyantraniliprole.
SD-150001 | 62719 | Enlist Duo | 2,4-D, Choline salt & Glycine, N-(phosphonomethyl)-, compd. with N-methylmethanamine (1:1).
TX-060016 | 56228 | Compound DRC-1339 Concentrate—Livestock, Nest & Fodder Depredations | Starlicide.
UT-170006 | 10163 | Treflan TR-10 | Trifluralin.
WA-020030 | 264 | Aliette WDG Fungicide | Fosetyl-Al.

Table 2—Product Registrations With Pending Requests for Amendment
Registration No. | Company No. | Product name | Active ingredient | Uses to be terminated
1475-21 | 1475 | Paradichlorobenzene | Paradichlorobenzene | Bird cage use.
42750-148 | 42750 | Propazine 4L | Propazine | Greenhouse use.
42750-149 | 42750 | Propazine Technical | Propazine | Greenhouse use.
46923-11 | 46923 | Copper Sulfate Pentahydrate Technical | Copper sulfate pentahydrate | Wood preservative use.
80990-3 | 80990 | Agri-Seed 50 WP | Streptomycin sulfate | Residential use.
87108-1 | 87108 | PDCB Molten Insecticide | Paradichlorobenzene | Bird use.
87108-2 | 87108 | PDCB Flakes | Paradichlorobenzene | Bird use.

Table 3 of this unit includes the names and addresses of record for all the registrants of the products listed in Tables 1 & 2 of this unit, in sequence by EPA company number. This number corresponds to the first part of the EPA registration numbers of the products listed in Table 1 and Table 2 of this unit.

Table 3—Registrants Requesting Voluntary Cancellation and/or Amendments
EPA company No. | Company name and address
228 | NuFarm Americas, Inc., 4020 Aerial Center Pkwy., Ste. 101, Morrisville, NC 27560.
264 | Bayer CropScience, LP, 800 N Lindbergh Blvd., St. Louis, MO 63167.
279 | FMC Corporation, 2929 Walnut Street, Philadelphia, PA 19104.
400 | Macdermid Agricultural Solutions, Inc., C/O Arysta Lifescience North America, LLC, Agent Name: UPL NA Inc., 630 Freedom Business Center, #402, King of Prussia, PA 19406.
464 | DDP Specialty Electronic Materials US, Inc., 1501 Larkin Center Drive, Midland, MI 48674.
1258 | Arch Chemicals, Inc., 1200 Bluegrass Lakes Parkway, Alpharetta, GA 30004.
1381 | Winfield Solutions, LLC, P.O. Box 64589, St. Paul, MN 55164-0589.
1475 | Willert Home Products, Inc., 4044 Park Avenue, St. Louis, MO 63110.
2792 | Decco US Post-Harvest, Inc., 1713 South California Avenue, Monrovia, CA 91016-0120.
7313 | PPG Architectural Finishes, Inc., Agent Name: PPG Architectural Finishes, Inc., 440 College Park, Monroeville, PA 15146.
7364 | Innovative Water Care, LLC, D/B/A GLB Pool & Spa, 1400 Bluegrass Lakes Parkway, Alpharetta, GA 30004.
8660 | United Industries Corp., D/B/A Sylorr Plant Corp., P.O. Box 142642, St. Louis, MO 63114-0642.
10163 | Gowan Company, P.O. Box 5569, Yuma, AZ 85366.
34688 | Akzo Nobel Surface Chemistry, LLC, 525 W Van Buren St., Chicago, IL 60607-3823.
42750 | Albaugh, LLC, P.O. Box 2127, Valdosta, GA 31604-2127.
45728 | Taminco US, LLC, A Subsidiary of Eastman Chemical Company, 200 S Wilcox Dr., Kingsport, TN 37660-5147.
46923 | Old Bridge Chemicals, Inc., Agent Name: Landis International, Inc., 3185 Madison Highway, P.O. Box 5126, Valdosta, GA 31603-5126.
56228 | U.S Department of Agriculture, Animal and Plant Health Inspection Service, 4700 River Road, Unit 149, Riverdale, MD 20737.
57787 | Haviland Consumer Products, Inc., Agent Name: TSG Consulting, 1150 18th Street NW, Suite 1000, Washington, DC 20036.
62719 | Dow Agrosciences, LLC, 9330 Zionsville Rd., 308/2E, Indianapolis, IN 46268-1054.
66222 | Makhteshim Agan of North America, Inc., D/B/A Adama, 3120 Highwoods Blvd., Suite 100, Raleigh, NC 27604.
69681 | Allchem Performance Products, Inc., 6010 NW First Place, Gainesville, FL 32607.
70127 | Novozymes Biologicals, Inc., Agent Name: Exponent, Inc., 1150 Conn. Ave. NW, Suite 1100, Washington, DC 20036.
70506 | UPL NA, Inc., 630 Freedom Business Center, Suite 402, King of Prussia, PA 19406.
71711 | Nichino America, Inc., 4550 Linden Hill Road, Suite 501, Wilmington, DE 19808.
80990 | Agrosource, Inc., P.O. Box 3091, Tequesta, FL 33469.
85678 | Redeagle International, LLC, Agent Name: Wagner Regulatory Associates, Inc., P.O. Box 640, Hockessin, DE 19707.
87108 | Jiangsu Yangnong Chemical Group Co., Ltd., Agent Name: Landis International, Inc., P.O. Box 5126, Valdosta, GA 31603-5126.
87663 | Emery Oleochemicals, LLC, 4900 Este Avenue, Cincinnati, OH 45232.
87703 | Spectrum Brands Pet Group, Inc., D/B/A United Pet Group, Inc., 3001 Commerce Street, Blacksburg, VA 24060.
88356 | Nicca USA, Inc., 1044 S Nelson Dr., Fountain Inn, SC 29644.

III. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in theFederal Register.

Section 6(f)(1)(B) of FIFRA (7 U.S.C. 136d(f)(1)(B)) requires that before acting on a request for voluntary cancellation, EPA must provide a 30-day public comment period on the request for voluntary cancellation or use termination. In addition, FIFRA section 6(f)(1)(C) (7 U.S.C. 136d(f)(1)(C)) requires that EPA provide a 180-day comment period on a request for voluntary cancellation or termination of any minor agricultural use before granting the request, unless:

1. The registrants request a waiver of the comment period, or

2. The EPA Administrator determines that continued use of the pesticide would pose an unreasonable adverse effect on the environment.

The registrants listed in Table 3 of Unit II have requested that EPA waive the 180-day comment period. Accordingly, EPA will provide a 30-day comment period on the proposed requests.

IV. Procedures for Withdrawal of Requests

Registrants who choose to withdraw a request for product cancellation or use termination should submit the withdrawal in writing to the person listed under FOR FURTHER INFORMATION CONTACT. If the products have been subject to a previous cancellation or termination action, the effective date of cancellation or termination and all other provisions of any earlier cancellation or termination action are controlling.

V. Provisions for Disposition of Existing Stocks

Existing stocks are those stocks of registered pesticide products that are currently in the United States and that were packaged, labeled, and released for shipment prior to the effective date of the action. If the requests for voluntary cancellation and amendments to terminate uses are granted, the Agency intends to publish the cancellation order in the Federal Register.

In any order issued in response to these requests for cancellation of product registrations and for amendments to terminate uses, EPA proposes to include the following provisions for the treatment of any existing stocks of the products listed in Table 1 of Unit II.

A. For Products 464-782; 464-8126; 464-8127 & 464-8129

For products 464-782; 464-8126; 464-8127 & 464-8129, listed in Table 1 of Unit II, the registrant has requested 18-months to sell existing stocks. Registrants will be permitted to sell and distribute existing stocks of these products for 18-months after the effective date of the cancellation, which will be the date of publication of the cancellation order in the Federal Register. Thereafter, registrants will be prohibited from selling or distributing these products, except for export consistent with FIFRA section 17 (7 U.S.C. 136o) or for proper disposal.

For all other voluntary product cancellations, identified in Table 1 of Unit II, registrants will be permitted to sell and distribute existing stocks of voluntarily canceled products for 1-year after the effective date of the cancellation, which will be the date of publication of the cancellation order in the Federal Register. Thereafter, registrants will be prohibited from selling or distributing all other products identified in Table 1 of Unit II, except for export consistent with FIFRA section 17 (7 U.S.C. 136o) or for proper disposal.

Once EPA has approved product labels reflecting the requested amendments to terminate uses, identified in Table 2 of Unit II, registrants will be permitted to sell or distribute products under the previously approved labeling for a period of 18-months after the date of Federal Register publication of the cancellation order, unless other restrictions have been imposed. Thereafter, registrants will be prohibited from selling or distributing the products whose labels include the terminated uses identified in Table 2 of Unit II, except for export consistent with FIFRA section 17 or for proper disposal.

Persons other than the registrant may sell, distribute, or use existing stocks of canceled products and products whose labels include the terminated uses until supplies are exhausted, provided that such sale, distribution, or use is consistent with the terms of the previously approved labeling on, or that accompanied, the canceled products and terminated uses.

(Authority: 7 U.S.C. 136 et seq.)

Dated: October 1, 2019.
Delores Barber,
Director, Information Technology and Resources Management Division, Office of Pesticide Programs.

[FR Doc. 2019-23386 Filed 10-24-19; 8:45 am]

BILLING CODE 6560-50-P